FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on the proposed revised information collections. In accordance with the Paperwork Reduction Act of 1995 (44 U.S.C. 3506(c)(2)(A)), this notice seeks comments concerning the Public Assistance Progress Report and various forms used to administer the Public Assistance Program.

Supplementary Information: The Robert T. Stafford Disaster Relief and Emergency Assistance Act, Public Law 93-288, as amended, authorizes the President to provide assistance to State and local governments to help them to respond to and recover from a disaster. In order to receive Federal assistance (i.e., Federal grants) State and local officials and officials of eligible private nonprofit organizations who have a responsibility for response to a major disaster and for the restoration of facilities in the aftermath of such events must provide information to FEMA. The information is required in accordance with FEMA regulations 44 CFR, § 206.204(f), § 206.203(c), § 206.203(d)(i) and guidance published in FEMA 322, Public Assistance Guide, and FEMA 323, Public Assistance Applicant Handbook.

Collection of Information

Title: Public Assistance Progress Report and Program Forms.

Type of Information Collection: Revision of a currently approved collection.

OMB Number: 3067-0151.

Form Numbers: FEMA Form 90-49, Request for Public Assistance, FEMA Form 90-91, Project Worksheet (PW), FEMA Form 90-91A, Damage Description and Scope of Work Continuation Sheet, FEMA Form 90-91B, Cost Estimate Continuation Sheet, FEMA Form 90-91C, Maps and Sketches Sheet, FEMA Form 90-91D, Photo Sheet, FEMA Form 90-120, Special Considerations Questions, FEMA Form 90-121, PNP Facility Questionnaire, FEMA Form 90-123, Force Account Labor Summary Record, FEMA Form 90-124, Materials Summary Record, FEMA Form 90-125, Rented Equipment Summary Record, FEMA Form 90-126, Contract Work Summary Record, FEMA Form 90-127, Force Account Equipment Summary Record, FEMA Form 90-128, Applicant's Benefits Calculation Worksheet.

Abstract: Progress Report ensures that FEMA and the State have up-to-date information on Public Assistance (PA) program grants. The State submits reports quarterly to the Regional Director for construction projects for which a final payment has not been made. The date of the report will be determined jointly by the State and the Disaster Recovery Manager. The progress report describes the status of project completion dates, and circumstances that could delay a project. The State is expected to impose some reporting requirements for applicants so that they can prepare quarterly reports. Request for Public Assistance—The Request is FEMA's official application form. The Grantee has 30 days from the date of the designation of the area where the damage occurred to submit a completed Request to the Regional Director for each applicant who requests public assistance. Project Worksheet (PW)—The PW identifies the eligible scope of work and includes a quantitative estimate for the eligible work. FEMA or the applicant (sub-grantee), assisted by the State, will prepare a PW for each project. The applicant will have 60 days to identify and report damages to FEMA. Federal funds are obligated to the State based on the approved PW. The State will then approve sub-grantees based on the PW approved for each applicant. PW Damage Description and Scope of Work Continuation Sheet—The Damage Description and Dimensions and Scope of Work should be listed in the areas provided on the PW. The optional PW—Damage Description and Scope of Work Continuation Sheet provides additional space, if needed, to describe the work necessary to restore the facility to its pre-disaster design. PW Cost Estimate Continuation Sheet—The cost estimate is the estimated cost of repair for the damages described in the Project Description of the PW. The optional PW Cost Estimate Continuation Sheet provides additional space, if needed, to estimate the cost to restore the facility to its pre-disaster condition. PW Maps and Sketches Sheet—The optional PW Maps and Sketches Sheet assist applicants in organizing project documentation. The exact location of the facility is described and a sketch of the facility will assist the applicant in describing the damage in terms of facility features or items requiring repair. PW Photo Sheet—The optional PW Photo Sheet assist applicants in organizing project documentation. The Photo Sheet provides field personnel with specific information that enables facility damages to be documented before work is accomplished. Force Account Labor Summary Record—The optional Force Account Labor Summary Record, is used to record applicant personnel cost. Force Account Equipment Summary Record—The optional Force Account Equipment Summary Record, is used to record applicant equipment costs. Materials Summary Record—The optional Materials Summary Record, is used to record the supplies and materials an applicant may take out of stock or purchase. Contract Work Summary Record—The optional Contract Work Summary Record, is used to record the costs of work that an applicant has done by contract. Rented Equipment Summary Record—The optional Rented Equipment Summary Record, is used to record the cost of rented or leased equipment. Special Considerations Questions—The key to expedited review and approval of emergency- or permanent-work projects is early identification of factors that affect compliance with environmental resources, disaster assistance, and historic preservation legislation and Executive Orders on floodplain, wetlands, and environmental justice. The optional Special Considerations Questions, assists applicants in organizing project documentation. It is more important that any considerations simply be noted on the PW thus alerting FEMA early on in the process to any problems or circumstances expected to result in noncompliance with the approved grant. A condition of all FEMA funded projects is that they conform to State and local laws and ordinances. Applicant's Benefits Calculation Worksheet—The optional Applicant's Benefits Calculation Worksheet is used to record the costs of fringe benefits for force account labor. PNP Facility Questionnaire—The optional PNP Facility Questionnaire is used to help determine the eligibility of specific Private Non-Profit facilities.

Affected Public: State, Local or Tribal government, and Not-For-Profit Institutions.

Estimated Total Annual Burden Hours: 94,243.

FEMA forms | Number of respondents | Frequency of response | Hours per response | Annual burden hours | Hourly cost estimate for personnel/staff | Annual cost
| (A) | (B) | (C) | (A × B × C) |  |
Progress Report | 25 | 4 | 25 | 2,500 | $40 | $100,000
FEMA Form 90-49 | 114 | 53 | ¹ 10 | 1,007 | 25 | 25,175
FEMA Form 90-91, 90-91A, 90-91B, 90-91C, and 90-91D | 564 | 53 | ¹ 90 | 44,838 | 30 | 1,345,140
FEMA Form 90-120 | 564 | 53 | ¹ 10 | 4,982 | 25 | 124,575
FEMA Form 90-121 | 20 | 53 | ¹ 30 | 530 | 25 | 13,250
FEMA Form 90-123 | 564 | 53 | ¹ 15 | 7,473 | 25 | 189,825
FEMA Form 90-124 | 564 | 53 | ¹ 15 | 7,473 | 25 | 189,825
FEMA Form 90-125 | 564 | 53 | ¹ 15 | 7,473 | 25 | 189,825
FEMA Form 90-126 | 564 | 53 | ¹ 15 | 7,473 | 25 | 189,825
FEMA Form 90-127 | 564 | 53 | ¹ 15 | 7,473 | 25 | 189,825
FEMA Form 90-128 | 114 | 53 | ¹ 30 | 3,021 | 25 | 75,525
Total | 222,488 |  |  | 94,243 |  | 2,617,790
¹ Minutes.

Estimated Cost: All projects approved under the State disaster assistance grants will be subject to the cost sharing provisions established in the FEMA State Agreement and the Stafford Act. The cost to respondents for this information collection is estimated to be $2,617,790.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: James Walke, Branch Chief, Public Assistance Branch, Recovery Division, (202) 646-2751 for additional information. You may contact Ms. Anderson for copies of the proposed collection of information at telephone number (202) 646-2625 or facsimile number (202) 646-3347 or e:mail muriel.anderson@fema.gov.

Dated: March 18, 2002.
Reginald Trujillo,
Branch Chief, Program Services and Systems Branch, Facilities Management and Services Division, Administration and Resource Planning Directorate.

[FR Doc. 02-7174 Filed 3-25-02; 8:45 am]

BILLING CODE 6718-01-P